DEPARTMENT OF ENERGY

U.S. Energy Information Administration

Notice and Request for Comments

AGENCY: U.S. Energy Information Administration (EIA), Department of Energy.

ACTION: Notice and request for comments.

SUMMARY: EIA, pursuant to the Paperwork Reduction Act of 1995, intends to extend with changes for three years with the Office of Management and Budget (OMB) Form EIA-63C Densified Biomass Fuel Report. Form EIA-63C collects data on pellet fuel and other densified biomass fuel production, sales, and inventory levels from operators of U.S. pellet fuel manufacturing facilities. The data collected is used for the purpose of estimating densified biomass fuel consumption in the United States, as well as production, sales, and inventory at state, regional, and national levels.

DATES: Comments regarding this proposed information collection must be received on or before December 19, 2017. If you anticipate difficulty in submitting comments within that period, contact the person listed in ADDRESSES as soon as possible.

ADDRESSES: Written comments may be sent to Connor Murphy, U.S. Department of Energy, EI-23, 1000 Independence Avenue SW., Washington, DC 2058, or by email at DensifiedBiomass2018@eia.gov. The draft form and instructions are available at https://www.eia.gov/survey/#eia-63c.

FOR FURTHER INFORMATION CONTACT: Requests for additional information or copies of the information collection instrument and instructions should be directed to Connor Murphy at 202-287-5982, or by email at Connor.Murphy@eia.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1905-0209;

(2) Information Collection Request Title: Densified Biomass Fuel Report;

(3) Type of Request: Renewal, with Changes;

(4) Purpose: Form EIA-63C Densified Biomass Fuel Report is part of EIA's comprehensive energy data program. The survey collects information on the manufacture, shipment, exports, energy characteristics, and sales of pellet fuels and other densified biomass fuel products data from facilities that manufacture densified biomass fuel products, primarily pellet fuels, for energy applications. The data collected is a primary source of information for the nation's growing production of biomass products for heating and electric power generation, for both domestic use and export markets.

(4a) Proposed Changes to Information Collection: To reduce reporting burden, EIA proposes to eliminate the following seven questions: Part 2 Question 2.2 “What is the operational month” Part 2 Question 2.4 “What is the total installed horsepower of the pellet extrusion machinery at this facility”; Part 2. Question 2.5 “If the pellet extrusion machinery was not fully utilized during the month, choose the applicable explanation” and all of explanation selection choices”; Part 2. Question 2.6 “What is the planned maximum annual production capacity at this facility”; Part 2. Question 2.7 “What is the planned total installed horsepower of the pellet extrusion machinery at this facility”; Part 3. Question 3.2 “In the reporting period, did the mill utilize any portion of the above feedstock for uses other than transformation into densified biomass products, such as to operate the mill, produce electricity (combined heat and power) or other beneficial use of energy produced (such as heating/cooling)”; Part 4. Question 4.2, Delete the column for reporting “Export Port.” Respondents will continue to report on all other data elements in section 4.2. EIA is proposing to delete these data elements based on consultations with respondents during the collection cycle. The questions that EIA proposes to delete were questions that respondents stated were either confusing or difficult to answer, or are questions that EIA receives too few responses to allow publication because of the data confidentiality rules that EIA applies to the aggregate statistical estimates. EIA is also proposing to change the due date for annual respondents (small biomass fuel manufacturers having a capacity of less than 10,000 tons per year or planned facilities) from February 1 to June 1 to coincide with the industry's off-season and ease their burden during their busiest time of the year. Respondents that need to file annually will only need to report limited data in Parts 1 and 2 of the form.

(5) Annual Estimated Number of Respondents: 105;

(6) Annual Estimated Number of Total Responses: 1095;

(7) Annual Estimated Number of Burden Hours: 1,516;

(8) Annual Estimated Reporting and Recordkeeping Cost Burden: The cost of the burden hours is estimated to be $111,699 (1,516 burden hours times $73.66 per hour). EIA estimates that there are no additional costs to respondents associated with the survey other than the costs associated with the burden hours.

Statutory Authority: Section 13(b) of the Federal Energy Administration Act of 1974, Pub. L. 93-275, codified at 15 U.S.C. 772(b) and the DOE Organization Act of 1977, Pub. L. 95-91, codified at 42 U.S.C. 7101 et seq.

Issued in Washington, DC, on October 11, 2017.
Nanda Srinivasan,
Director, Office of Survey Development and Statistical Integration, U.S. Energy Information Administration.

[FR Doc. 2017-22798 Filed 10-19-17; 8:45 am]

BILLING CODE 6450-01-P